DEPARTMENT OF TRANSPORTATION

Federal Aviation Administration

14 CFR Part 39

[Docket No. FAA-2025-5027; Project Identifier MCAI-2025-00023-A]

RIN 2120-AA64

Airworthiness Directives; Piaggio Aviation S.p.A. Airplanes

AGENCY: Federal Aviation Administration (FAA), DOT.

ACTION: Notice of proposed rulemaking (NPRM).

SUMMARY: The FAA proposes to adopt a new airworthiness directive (AD) for certain Piaggio Aviation S.p.A. (Piaggio) Model P-180 airplanes. This proposed AD was prompted by a report of chafing in the flap transmission shafts. This proposed AD would require inspecting the flap transmission shaft for chafing or any damage (surface abrasions, grooves or rubbing tracks, and metallic smears or transfers), measuring specific gaps, and, depending on findings, accomplishing applicable corrective actions. The FAA is proposing this AD to address the unsafe condition on these products.

DATES: The FAA must receive comments on this NPRM by January 26, 2026.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-5027; or in person at Docket Operations between 9 a.m. and 5 p.m., Monday through Friday, except Federal holidays. The AD docket contains this NPRM, the mandatory continuing airworthiness information (MCAI), any comments received, and other information. The street address for Docket Operations is listed above.

Material Incorporated by Reference:

• For Piaggio Aerospace material identified in this AD, contact Piaggio, P180 Customer Support, via Pionieri e Aviatori d'Italia, snc—16154 Genoa, Italy; phone: +39 331 679 74 93; email: technicalsupport@piaggioaerospace.it.

• You may view this material at the FAA, Airworthiness Products Section, Operational Safety Branch, 901 Locust, Kansas City, MO 64106. For information on the availability of this material at the FAA, call (817) 222-5110. It is also available at regulations.gov under Docket No. FAA-2025-5027.

FOR FURTHER INFORMATION CONTACT: Frank Huynh, Aviation Safety Engineer, FAA, 1600 Stewart Avenue, Suite 410, Westbury, NY 11590; phone: (404) 983-5288; email: frank.huynh@faa.gov.

SUPPLEMENTARY INFORMATION:

Comments Invited

The FAA invites you to send any written relevant data, views, or arguments about this proposal. Send your comments using a method listed under ADDRESSES. Include “Docket No. FAA-2025-5027; Project Identifier MCAI-2025-00023-A” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Frank Huynh, Aviation Safety Engineer, FAA, 1600 Stewart Avenue, Suite 410, Westbury, NY 11590. Any commentary that the FAA receives which is not specifically designated as CBI will be placed in the public docket for this rulemaking.

Background

The European Union Aviation Safety Agency (EASA), which is the Technical Agent for the Member States of the European Union, has issued EASA AD 2025-0014, dated January 13, 2025 (EASA AD 2025-0014) (also referred to as the MCAI), to correct an unsafe condition on certain serial-numbered Piaggio Model P-180 airplanes.

The MCAI states that an occurrence was reported where, during scheduled airplane maintenance, chafing was detected on the flap transmission shafts. A subsequent investigation identified a limited clearance between flap transmission shafts 1 and 7 and the wing rib at wing station 440 and between flap transmission shaft 7 and the cabin door seal inflation system pneumatic pipe. This condition, if not detected and corrected, could affect the integrity of the flap transmission and lead to reduced control of the airplane.

To address the unsafe condition, the MCAI requires inspecting the flap transmission shafts, measuring specific gaps, and, depending on the findings, accomplishing corrective actions.

You may examine the MCAI in the AD docket at regulations.gov under Docket No. FAA-2025-5027.

Material Incorporated by Reference Under 1 CFR Part 51

The FAA reviewed Piaggio Aerospace Service Bulletin 80-0498, Revision 0, dated August 2, 2024 (Piaggio SB 80-0498, Revision 0). This material specifies procedures for inspecting the flap transmission shaft for chafing or any damage (surface abrasions, grooves or rubbing tracks, and metallic smears or transfers), measuring specific gaps, and depending on findings, accomplishing applicable corrective actions. This material is reasonably available because the interested parties have access to it through their normal course of business or by the means identified in the ADDRESSES section.

FAA's Determination

These products have been approved by the civil aviation authority of another country and are approved for operation in the United States. Pursuant to the FAA's bilateral agreement with this State of Design Authority, that authority has notified the FAA of the unsafe condition described in the MCAI and material referenced above. The FAA is issuing this NPRM after determining that the unsafe condition described previously is likely to exist or develop on other products of the same type design.

Proposed AD Requirements in This NPRM

This proposed AD would require accomplishing the actions specified in the material already described, except as discussed under “Differences Between this Proposed AD and the Referenced Material.”

Differences Between This Proposed AD and the Referenced Material

The referenced material requires contacting Piaggio for approved repair instructions. This proposed AD would require contacting either the Manager, International Validation Branch, FAA; EASA; or Piaggio's EASA Design Organization Approval (DOA), for approved repair instructions.

Costs of Compliance

The FAA estimates that this AD, if adopted as proposed, would affect 98 airplanes of U.S. registry.

The FAA estimates the following costs to comply with this proposed AD:

Estimated Costs
Action | Labor cost | Parts cost | Cost per product | Cost on U.S. operators
Initial inspection of flap transmission shafts | 28 work-hours × $85 per hour = $2,380 | $0 | $2,380 | $233,240

The FAA estimates the following costs to do any necessary rework, repairs or replacements that would be required based on the results of the proposed inspection. Any corrective action that may be needed as a result of the proposed inspection can vary from airplane to airplane. The agency has no way of determining the number of airplanes that might need this rework, repairs, or replacements:

On-Condition Costs
Action | Labor cost | Parts cost | Cost per product
Repetitive inspections of flap transmission shafts | 28 work-hours × $85 per hour = $2,380, per inspection | $0 | $2,380, per inspection.
Rework of wing rib(s) | 40 work-hours × $85 per hour = $3,400, per rework | 0 | $3,400, per rework.
Repair of pneumatic pipe | 20 work-hours × $85 per hour = $1,700, per repair | 0 | $1,700, per repair.
Replacement of flap transmission shaft (all four) | 20 work-hours × $85 per hour = $1,700 | 21,282 | $22,982.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Piaggio Aviation S.p.A.: Docket No. FAA-2025-5027; Project Identifier MCAI-2025-00023-A.

(a) Comments Due Date

The FAA must receive comments on this airworthiness directive (AD) by January 26, 2026.

(b) Affected ADs

None.

(c) Applicability

This AD applies to Piaggio Aviation S.p.A. Model P-180 airplanes, serial numbers 1002, 1004 through 3016, and 3018, certificated in any category.

(d) Subject

Joint Aircraft System Component (JASC) Code 2700, Flight Control System.

(e) Unsafe Condition

This AD was prompted by a report of chafing in the flap transmission shafts. The FAA is issuing this AD to detect and address chafing or any damage (surface abrasions, grooves or rubbing tracks, and metallic smears or transfers) in the flap transmission shafts. The unsafe condition, if not addressed, could affect the integrity of the flap transmission, which could lead to reduced control of the airplane.

(f) Compliance

Comply with this AD within the compliance times specified, unless already done.

(g) Required Actions

(1) Within 220 hours time-in-service (TIS) after the effective date of this AD, inspect the outboard and inboard flap transmission shafts (#1 and #7) at the crossing holes and openings on wing rib 440 and inspect the left-hand (LH) inboard flap transmission shaft (#7) and the pneumatic pipe for chafing or any damage (surface abrasions, grooves or rubbing tracks, and metallic smears or transfers). Additionally, measure the gaps between the outboard and inboard flap transmission shafts (#1 and #7) and their respective crossing holes and openings on wing rib 440, and the gap between the LH inboard flap transmission shaft (#7) and the pneumatic pipe. Perform these actions in accordance with the ACCOMPLISHMENT INSTRUCTIONS, paragraph B. PROCEDURE/MODIFICATION, steps (10) and (11) in Piaggio Aerospace Service Bulletin 80-0498, Revision 0, dated August 2, 2024 (Piaggio SB 80-0498, Revision 0).

(2) If chafing or any damage (surface abrasions, grooves or rubbing tracks, and metallic smears or transfers) (referred to as discrepancies) is found during the inspections required by paragraph (g)(1) of this AD, perform any rework, repair, replacement, and repetitive inspections, as applicable, as specified in paragraphs (g)(2)(i) through (iv) of this AD.

(i) If no discrepancies are found or discrepancies are found that meet the criteria in Case 1 of paragraph 14 of Part A, paragraph B. PROCEDURE/MODIFICATION, of the ACCOMPLISHMENT INSTRUCTIONS section in Piaggio SB 80-0498, Revision 0, no further action is required by this AD.

(ii) If discrepancies are found that meet the criteria in Case 2 of paragraph 14 of Part A, paragraph B. PROCEDURE/MODIFICATION, of the ACCOMPLISHMENT INSTRUCTIONS section in Piaggio SB 80-0498, Revision 0, accomplish the actions of paragraph (g)(2)(ii)(A) and (B):

(A) Repetitively perform the inspections of paragraph (g)(1) at intervals not to exceed 220 hours TIS until the rework required by paragraph (g)(2)(ii)(B) of this AD is done.

(B) Within 660 hours TIS after the initial inspection required by paragraph (g)(1) of this AD, rework the wing rib(s) 440 (LH part number (P/N) 80-201367-001, right-hand (RH) P/N 80-201367-002) in accordance with Steps 14 through 21 of Part A and Part B, paragraph B. PROCEDURE/MODIFICATION, of the ACCOMPLISHMENT INSTRUCTIONS section in Piaggio SB 80-0498, Revision 0.

(iii) If discrepancies are found that meet the criteria in Case 3 of paragraph 14 of Part A, paragraph B. PROCEDURE/MODIFICATION, of the ACCOMPLISHMENT INSTRUCTIONS section in Piaggio SB 80-0498, Revision 0, accomplish the actions of paragraph (g)(2)(iii)(A) and (B):

(A) Repetitively perform the inspections of paragraph (g)(1) of this AD at intervals not to exceed 110 hours TIS until the rework required by paragraph (g)(2)(iii)(B) of this AD is done.

(B) Within 220 hours TIS after the initial inspection required by paragraph (g)(1) of this AD, rework the wing rib(s) 440 (LH P/N 80-201367-001, RH P/N 80-201367-002) in accordance with Steps 14 through 21 of Part A and Part B, paragraph B. PROCEDURE/MODIFICATION, of the ACCOMPLISHMENT INSTRUCTIONS section in Piaggio SB 80-0498, Revision 0.

(iv) If discrepancies are found that meet the criteria in Case 4 of paragraph 14 of Part A, paragraph B. PROCEDURE/MODIFICATION, of the ACCOMPLISHMENT INSTRUCTIONS section in Piaggio SB 80-0498, Revision 0, before further flight, perform the following:

(A) Rework the wing rib(s) 440 (LH P/N 80-201367-001, RH P/N 80-201367-002) in accordance with Steps 14 through 21 of Part A and Part B, paragraph B. PROCEDURE/MODIFICATION, of the ACCOMPLISHMENT INSTRUCTIONS section in Piaggio SB 80-0498, Revision 0.

(B) Repair the pneumatic pipe (P/N 80-207493-401) in accordance with Steps 22 through 42 of Part B, paragraph B. PROCEDURE/MODIFICATION, of the ACCOMPLISHMENT INSTRUCTIONS section in Piaggio SB 80-0498, Revision 0.

(C) Replace any damaged transmission shaft with an airworthy one.

(3) If clearance cannot be obtained during Steps 21, 41, or 42 of Part B, paragraph B. PROCEDURE/MODIFICATION, of the ACCOMPLISHMENT INSTRUCTIONS section in Piaggio SB 80-0498, Revision 0, as required by paragraphs (g)(2)(ii)(B), (g)(2)(iii)(B), or (g)(2)(iv)(B) of this AD, contact the Manager, International Validation Branch, FAA; the European Union Aviation Safety Agency (EASA); or Piaggio's EASA Design Organization Approval (DOA) for approved repair instructions, and before further flight, perform the repair. If the repair is approved by the DOA, the approval must include the DOA-authorized signature.

(h) No Reporting Requirement

Although Piaggio Aerospace Service Bulletin 80-0498, Revision 0, specifies to submit certain information to the manufacturer, this AD does not include that requirement.

(i) Alternative Methods of Compliance (AMOCs)

The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (j) of this AD and email to: AMOC@faa.gov. Before using any approved AMOC, notify your appropriate principal inspector, or lacking a principal inspector, the manager of the local flight standards district office/certificate holding district office.

(j) Additional Information

For more information about this AD, contact Frank Huynh, Aviation Safety Engineer, FAA, 1600 Stewart Avenue, Suite 410, Westbury, NY 11590; phone: (404) 983-5288; email: frank.huynh@faa.gov.

(k) Material Incorporated by Reference

(1) The Director of the Federal Register approved the incorporation by reference (IBR) of the material listed in this paragraph under 5 U.S.C. 552(a) and 1 CFR part 51.

(2) You must use this material as applicable to do the actions required by this AD, unless the AD specifies otherwise.

(i) Piaggio Aerospace Service Bulletin 80-0498, Revision 0, dated August 2, 2024.

(ii) [Reserved]

(3) For Piaggio Aerospace material identified in this AD, contact Piaggio Aviation S.p.A., P180 Customer Support, via Pionieri e Aviatori d'Italia, snc—16154 Genoa, Italy; phone: +39 331 679 74 93; email: technicalsupport@piaggioaerospace.it.

(4) You may view this material at the FAA, Airworthiness Products Section, Operational Safety Branch, 901 Locust, Kansas City, MO 64106. For information on the availability of this material at the FAA, call (817) 222-5110.

(5) You may view this material at the National Archives and Records Administration (NARA). For information on the availability of this material at NARA, visit www.archives.gov/federal-register/cfr/ibr-locations or email fr.inspection@nara.gov.

Issued on November 18, 2025.
Steven W. Thompson,
Acting Deputy Director, Compliance & Airworthiness Division, Aircraft Certification Service.

[FR Doc. 2025-22444 Filed 12-9-25; 8:45 am]

BILLING CODE 4910-13-P